DEPARTMENT OF HEALTH AND HUMAN SERVICES

Centers for Disease Control and Prevention

[60Day-25-25AC; Docket No. CDC-2024-0076]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed information collection, as required by the Paperwork Reduction Act of 1995. This notice invites comment on a proposed information collection project titled Overdose Response Strategy Data Collection. This data collection will allow Overdose Response Strategy (ORS) teams and their partners to provide critical data to CDC for program monitoring and achieve the goal of supporting public health and public safety partnerships to reduce drug overdose.

DATES: CDC must receive written comments on or before December 20, 2024.

ADDRESSES: You may submit comments, identified by Docket No. CDC-2024-0076 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

Overdose Response Strategy Data Collection—New—National Center for Injury Prevention and Control (NCIPC), Centers for Disease Control and Prevention (CDC).

Background and Brief Description

Drug overdoses remain the leading cause of injury-related death in the United States. CDC predicts that around 108,000 Americans died from a drug overdose in the 12-month period ending December 2023. Recently, overdose deaths have been linked to the rapid increase in synthetic opioids, including illicitly manufactured fentanyl (IMF), and a resurgence of stimulants, particularly methamphetamine, into the illegal drug supply.

Multisector collaboration is critical to preventing overdoses and saving lives. Two key sectors in this response are public health and public safety, as they are both on the front lines and both tasked with improving community safety and well-being. CDC demonstrates strong commitment to public health/public safety partnerships through implementation of several national programs, including the Overdose Response Strategy (ORS).

ORS teams support public health and public safety entities in their jurisdictions by:

• Sharing data systems to inform rapid and effective community overdose prevention efforts.

• Supporting immediate, evidence-based response efforts that can directly reduce overdose deaths.

• Designing and using promising strategies at the intersection of public health and public safety.

• Disseminating information to support the implementation of evidence-informed overdose prevention strategies.

As the ORS is one of CDC's flagship overdose prevention programs, and partnering with public safety is one of CDC's key overdose prevention strategies, a greater understanding of the impact and effectiveness of the ORS is needed to inform program enhancements and improvements. This ICR focuses on a survey and a reporting tool that ORS teams and their partners will complete to provide critical data to CDC for program monitoring, to inform technical assistance and guidance documents produced by CDC or other partners, and to assess the extent to which the ORS program is achieving the goal of supporting public health and public safety partnerships to reduce drug overdose. It will also provide CDC with the capacity to respond in a timely manner to requests for information about the program from the Department of Health and Human Services (HHS), the White House, Congress, and other sources. Information collected will be disseminated to ORS teams and to the public via an annual Program Evaluation Report and an ORS Annual Report. Data from both reports will largely be used to develop programmatic reports, tools, and implementation guides for the purposes of program improvement.

CDC requests OMB approval for an estimated 633 annual burden hours. There is no cost to respondents other than their time to participate.

Estimated Annualized Burden Hours
Type of respondents | Form name | Number of respondents | Number of responses per respondent | Average burden per response (in hours) | Total burden (in hours)
ORS Public Health Analysts | ORS Annual Evaluation Survey-PHA | 61 | 1 | 30/60 | 31
| ORS Quarterly Reporting Template | 61 | 4 | 1 | 244
ORS Drug Intelligence Officers | ORS Annual Evaluation Survey-DIO | 61 | 1 | 30/60 | 31
| ORS Quarterly Reporting Template | 61 | 4 | 1 | 244
State, territory, county and city health department staff | ORS Annual Evaluation Survey-Public Health Partner | 70 | 1 | 30/60 | 35
HIDTA staff | ORS Annual Evaluation Survey-Public Safety Partner | 70 | 1 | 30/60 | 35
CDCF ORS National Team Staff | ORS Annual Evaluation Survey-ORS Management/Coordination Team | 25 | 1 | 30/60 | 13
Total |  |  |  |  | 633

Jeffrey M. Zirger,
Lead, Information Collection Review Office, Office of Public Health Ethics and Regulations, Office of Science, Centers for Disease Control and Prevention.

[FR Doc. 2024-24303 Filed 10-18-24; 8:45 am]

BILLING CODE 4163-18-P